DEPARTMENT OF COMMERCE

International Trade Administration

Notice of Scope Rulings

AGENCY: Enforcement and Compliance, International Trade Administration, Department of Commerce.

DATES: Effective Date: May 29, 2014.

SUMMARY: The Department of Commerce (“Department”) hereby publishes a list of scope rulings and anticircumvention determinations made between January 1, 2014, and March 31, 2014. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on April 7, 2014.² This current notice covers all scope rulings and anticircumvention determinations made by Enforcement and Compliance between January 1, 2014, and March 31, 2014, inclusive. Subsequent lists will follow after the close of each calendar quarter.

¹ See 19 CFR 351.225(o).

² See Notice of Scope Rulings, 79 FR 19057 (April 7, 2014).

Scope Rulings Made Between January 1, 2014 and March 31, 2014

Japan

A-588-857: Welded Large Diameter Line Pipe From Japan

Requestor: TransCanada Pipelines Limited; certain welded large diameter line pipe that is processed to meet CSA grade 550 pipe having an outside diameter of 48 inches up to and including 52 inches and a wall thickness of 0.90 inches or more, is not subject to the scope of the antidumping duty order because record evidence indicates that these products are comparable to API grade X80, which is expressly excluded from the scope of the antidumping duty order; March 24, 2014.

People's Republic of China

A-570-967 and C-570-968: Aluminum Extrusions From the People's Republic of China

Requestor: Aluwind Inc.; Aluwind Inc.'s gallery assemblies for wind turbines are finished goods and are not covered by the orders; March 27, 2014.

A-570-967 and C-570-968: Aluminum Extrusions From the People's Republic of China

Requestor: Shenyang Yuanda Aluminum Industry Engineering Co., Ltd., (Yuanda); Yuanda's curtain wall units that are produced and imported pursuant to a contract to supply a curtain wall are within the scope of the orders because the language of the scope specifically provides that subject aluminum extrusions may be described at the time of importation as parts for final products (including curtain walls) that are assembled after importation, and curtain wall units that are produced and imported pursuant to a contract to supply a curtain wall fall short of the final finished curtain wall that envelops an entire building; March 27, 2014.

A-570-912 and C-570-913: Certain New Pneumatic Off-the-Road Tires From the People's Republic of China

Requestor: China Manufacturers Alliance (“CMA”); CMA's on-road high-speed tires for mobile cranes with the REM-8 pattern are outside the scope of the order because the scope is not intended to include tires designed for high-speed mobile cranes designed for on-highway use, and thus excludes CMA's on-road mobile crane tires designed for high-speed use; March 19, 2014.

A-570-943 and C-570-944: Certain Oil Country Tubular Goods From the People's Republic of China

Requestors: United States Steel Corporation, TMK IPSCO, Wheatland Tube Company, Boomerang Tube LLC, and V&M Star L.P.; seamless unfinished oil country tubular goods manufactured in the People's Republic of China (“PRC”) and finished in countries other than the United States and the PRC (i.e., third countries) is within the scope of the order where the finishing consists of heat treatment by quenching and tempering, upsetting and threading (with integral joint), or threading and coupling; and the products are made to the following specifications and grades: API specification 5CT, grades P-110, T-95 and Q-125; February 7, 2014.

A-570-910 and C-570-911: Circular Welded Carbon Quality Steel Pipe From the People's Republic of China

Requestor: Cintube Ltd. (“Cintube”); Cintube's 45° and 90° bend pipes, which are Chinese-origin pipes further processed and heat treated in Canada to create bends at various angles, are not covered by the scopes of the AD and CVD orders because they are pipe fittings, which consist of additional distinguishing physical characteristics not contemplated by the scope of the orders; February 20, 2014.

A-570-891: Hand Trucks and Certain Parts Thereof From the People's Republic of China

Requestor: The Harp Shoppe; the Harp Trolley is not subject to the scope of the antidumping duty order because it lacks a required vertical frame; February 18, 2014.

A-570-891: Hand Trucks and Certain Parts Thereof From the People's Republic of China

Requestor: Gaither Tool Company, Inc.; the Winntec HD Y471147 tire and wheel cart is not subject to the antidumping duty order because it lacks a required horizontal projecting edge or edges or toe plate at or near the lower section of the frame; March 25, 2014.

A-570-891: Hand Trucks and Certain Parts Thereof From the People's Republic of China

Requestor: Sperian Eye and Face Protection, Inc., a subsidiary of Honeywell International, Inc.; carts for mobile eyewash stations are not subject to the antidumping duty order because they lack a required horizontal projecting edge or edges or toe plate at or near the lower section of the frame; March 31, 2014.

A-570-504: Petroleum Wax Candles From the People's Republic of China

Requestor: HSE USA, Inc.; HSE's set of 10 candles are not within the scope of the antidumping duty order because they meet the definition for utility candles using the criteria set forth in 19 CFR 351.225(k)(2); January 29, 2014.

A-570-979 and C-570-980: Silicon Photovoltaic Cells, Whether or Not Assembled Into Modules, From the People's Republic of China

Requestor: NVT LLC (d/b/a SunEdison); Modules assembled in Malaysia from solar cells manufactured in Taiwan, where all manufacturing of the modules/cells took place in Malaysia and Taiwan, are not subject to the scope of the AD and CVD orders because neither the solar modules nor the solar cells therein were manufactured in the PRC; January 10, 2014.

A-570-918: Steel Wire Garment Hangers From the People's Republic of China

Requestor: Dollar General Corporation, LLC (“Dollar General”); The Vinyl-Coated Hanger is within the scope of the antidumping duty order (“Order”) because the physical description of this hanger does not meet any of the exclusions in the scope, while the Five-Tier Swing Arm Slack Rack Hanger, Chrome Tie/Belt Hanger, Slacker Hanger, and Four-Tier Skirt/Slack Hanger are outside the scope because they are distinct in production process, as well as form and shape (and use) from hangers covered by the scope of the antidumping duty order as determined by the Department of Commerce; January 16, 2014.

A-570-890: Wooden Bedroom Furniture From the People's Republic of China

Requestor: Stork Craft Manufacturing Inc. (“Stork Craft”); Stork Craft's bench/toy box is excluded from the scope of the order because it shares sufficient characteristics with excluded toy boxes, in addition to having elements consistent with excluded seating furniture; February 25, 2014.

Anticircumvention Determinations Made Between January 1, 2014, and March 31, 2014

A-570-866: Polyethylene Retail Carrier Bags From the People's Republic of China

Requestor: Hilex Poly Co., LLC and Superbag Corp.; exports of unfinished polyethylene retail carrier bags which are sealed on all four sides, cut to length, and which appear ready to undergo the final step in the production process (i.e., to use a die press to stamp out the opening and create the handles of a finished polyethylene retail carrier bag) are circumventing the antidumping duty order; March 19, 2014.

A-570-928: Uncovered Innerspring Units From the People's Republic of China

Requestor: Leggett & Platt Incorporated; exports to the United States of uncovered innerspring units completed and assembled in Malaysia by Reztec Industries Sdn Bhd from PRC-origin innerspring components are circumventing the antidumping duty order; January 21, 2014.

Interested parties are invited to comment on the completeness of this list of completed scope and anticircumvention inquiries. Any comments should be submitted to the Deputy Assistant Secretary for AD/CVD Operations, Enforcement and Compliance, International Trade Administration, 14th Street and Constitution Avenue, NW., APO/Dockets Unit, Room 1870, Washington, DC 20230.

This notice is published in accordance with 19 CFR 351.225(o).

Dated: May 22, 2014.
Christian Marsh,
Deputy Assistant Secretary for Antidumping and Countervailing Duty Operations.

[FR Doc. 2014-12487 Filed 5-28-14; 8:45 am]

BILLING CODE 3510-DS-P